DEPARTMENT OF TRANSPORTATION

Federal Aviation Administration

14 CFR Part 39

[Docket No. FAA-2006-25851; Directorate Identifier 2006-NM-133-AD]

RIN 2120-AA64

Airworthiness Directives; BAE Systems (Operations) Limited Model BAe 146 and Avro 146-RJ Airplanes

AGENCY: Federal Aviation Administration (FAA), Department of Transportation (DOT).

ACTION: Notice of proposed rulemaking (NPRM).

SUMMARY: The FAA proposes to adopt a new airworthiness directive (AD) for all BAE Systems (Operations) Limited Model BAe 146 and Avro 146-RJ airplanes. This proposed AD would require determining the part number of the lift spoiler actuators/jacks (referred to after this as “lift spoiler jacks”). For affected lift spoiler jacks, this proposed AD would require determining the date of manufacture of the lift spoiler jacks, repetitively inspecting the eye-end assembly of the lift spoiler jacks to detect discrepancies of the assembly or associated parts, and performing corrective actions if necessary. This proposed AD results from a report that a lift spoiler deployed in flight due to corrosion at the thread where the eye-end assembly was screwed into the piston of the lift spoiler jack. We are proposing this AD to prevent detachment of the eye-end assembly of a lift spoiler jack, which could result in uncommanded deployment of a lift spoiler in flight, and consequent reduced controllability of the airplane.

DATES: We must receive comments on this proposed AD by October 20, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact British Aerospace Regional Aircraft American Support, 13850 Mclearen Road, Herndon, Virginia 20171, for service information identified in this proposed AD.

FOR FURTHER INFORMATION CONTACT: Todd Thompson, Aerospace Engineer, International Branch, ANM-116, FAA, Transport Airplane Directorate, 1601 Lind Avenue, SW., Renton, Washington 98057-3356; telephone (425) 227-1175; fax (425) 227-1149.

SUPPLEMENTARY INFORMATION:

Comments Invited

We invite you to submit any relevant written data, views, or arguments regarding this proposed AD. Send your comments to an address listed in the ADDRESSES section. Include the docket number “FAA-2006-25851; Directorate Identifier 2006-NM-133-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The European Aviation Safety Agency (EASA) notified us that an unsafe condition may exist on all BAE Systems (Operations) Limited Model BAe 146 and Avro 146-RJ airplanes. The EASA advises that a lift spoiler deployed in flight, due to detachment of the eye-end assembly of the lift spoiler actuator/jack (referred to after this as the “lift spoiler jack”). Investigation revealed corrosion at the thread where the eye-end assembly was screwed into the piston of the lift spoiler jack. This condition, if not corrected, could result in uncommanded deployment of a lift spoiler in flight, and consequent reduced controllability of the airplane.

Relevant Service Information

BAE Systems (Operations) Limited has issued Inspection Service Bulletin SB27-176, Revision 2, dated October 5, 2004. The service bulletin describes procedures for determining the serial number and date of manufacture of the lift spoiler jacks, and repetitively inspecting for discrepancies of the eye-end assembly of certain lift spoiler jacks, associated hardware (lock nut, locking device, and lock washer), and the thread of the piston where the eye-end assembly attaches. Discrepancies include but are not limited to evidence of corrosion or damaged or fretted threads. If there is no discrepancy or only light corrosion, as defined in the service bulletin, the service bulletin specifies repeating the inspection at a reduced inspection interval. If there is any severe corrosion, or damaged or fretted thread, the service bulletin specifies replacing the eye-end assembly or affected hardware with a new or serviceable part. If any discrepancy of the threads of the piston is found, the service bulletin specifies returning the piston to the manufacturer for repair.

Accomplishing the actions specified in the service information is intended to adequately address the unsafe condition. The EASA mandated the service information and issued airworthiness directive 2006-0139, dated May 23, 2006, to ensure the continued airworthiness of these airplanes in the European Union.

FAA's Determination and Requirements of the Proposed AD

These airplane models are manufactured in the United Kingdom and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for products of this type design that are certificated for operation in the United States.

Therefore, we are proposing this AD, which would require determining the part number (P/N) of all six lift spoiler jacks, and, for affected lift spoiler jacks, accomplishing the actions specified in the service information described previously, except as discussed under “Differences Between the Proposed AD and Service Information.”

Differences Between the Proposed AD and Service Information

If any discrepancy of the threads of the piston is found, the service bulletin specifies returning the piston to the manufacturer for repair. This proposed AD would not require this action. Instead, this proposed AD would require replacing the piston with a new or serviceable piston.

The service bulletin does not specify the type of inspection necessary to find discrepancies of the eye-end assembly of the lift spoiler jacks. We have determined that a detailed inspection is needed. Note 1 of this proposed AD defines this type of inspection.

Costs of Compliance

This proposed AD would affect about 53 airplanes of U.S. registry. The proposed inspections would take about 4 work hours per airplane, per inspection cycle, at an average labor rate of $80 per work hour. Based on these figures, the estimated cost of the proposed AD for U.S. operators is $16,960, or $320 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

BAE Systems (Operations) Limited (Formerly British Aerospace Regional Aircraft): Docket No. FAA-2006-25851; Directorate Identifier 2006-NM-133-AD.

Comments Due Date

(a) The FAA must receive comments on this AD action by October 20, 2006.

Affected ADs

(b) None.

Applicability

(c) This AD applies to all BAE Systems (Operations) Limited Model BAe 146-100A, -200A, and -300A series airplanes; and Model Avro 146-RJ70A, 146-RJ85A, and 146-RJ100A airplanes; certificated in any category.

Unsafe Condition

(d) This AD results from a report that a lift spoiler deployed in flight due to corrosion at the thread where the eye-end assembly was screwed into the piston of the lift spoiler actuator/jack (referred to after this as the “lift spoiler jack”). We are issuing this AD to prevent detachment of the eye-end assembly of a lift spoiler jack, which could result in uncommanded deployment of a lift spoiler in flight, and consequent reduced controllability of the airplane.

Compliance

(e) You are responsible for having the actions required by this AD performed within the compliance times specified, unless the actions have already been done.

Service Bulletin Reference

(f) The term “service bulletin,” as used in this AD, means the Accomplishment Instructions of BAE Systems (Operations) Limited Inspection Service Bulletin SB27-176, Revision 2, dated October 5, 2004. Although the service bulletin specifies to submit information to the manufacturer, this AD does not include that requirement. Inspections and corrective actions accomplished before the effective date of this AD in accordance with BAE Systems (Operations) Limited Inspection Service Bulletin SB27-176, dated October 1, 2003; or Revision 1, dated January 13, 2004; are acceptable for compliance with the corresponding actions required by this AD.

Determination of Part Number (P/N)

(g) Within 30 days after the effective date of this AD: Determine the P/N of all six lift spoiler jacks. A review of airplane maintenance records is an acceptable method of determining the P/N if the P/N can be conclusively determined from that review.

(1) If no lift spoiler jack having P/N P308-45-0002 or P308-45-0102 is installed: No further action is required by this paragraph.

(2) For any lift spoiler jack having P/N P308-45-0002 or P308-45-0102: Before further flight, inspect the lift spoiler jack to determine its serial number (S/N) and date of manufacture. A review of airplane maintenance records is acceptable in lieu of this inspection if the S/N and date of manufacture can be conclusively determined from that review.

Inspection of Lift Spoiler Jack

(h) For any lift spoiler jack having P/N P308-45-0002 or P308-45-0102: At the applicable compliance time specified in paragraph (h)(1) or (h)(2) of this AD, perform a detailed inspection for discrepancies of the eye-end assembly of the lift spoiler jack, associated hardware, and the thread of the piston where the eye-end assembly attaches, in accordance with the service bulletin. Discrepancies include but are not limited to evidence of corrosion or damaged or fretted threads.

(1) For lift spoiler jacks identified in paragraphs (h)(1)(i) and (h)(1)(ii) of this AD: Within 30 days after the effective date of this AD.

(i) Any lift spoiler jack having a S/N prefixed with “DAWX” or “CSW” (regardless of the date of manufacture).

(ii) Any lift spoiler jack having P/N P308-45-0002 or P308-45-0102, with a date of manufacture on or before December 31, 1999.

(2) For lift spoiler jacks with a date of manufacture on or after January 1, 2000, except those with S/Ns prefixed with “DAWX” or “CSW”: Within 5 months after the effective date of this AD.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Repetitive Inspections/Corrective Action

(i) Repeat the inspection required by paragraph (h) of this AD and do corrective actions based on the inspection findings, in accordance with paragraph (i)(1), (i)(2), or (i)(3) of this AD, as applicable.

(1) If no discrepancy of the eye-end assembly of the lift spoiler jack is found: Repeat the inspection required by paragraph (h) of this AD within 48 months, and, based on the findings during that repeat inspection, repeat the inspection and do corrective actions, as applicable, in accordance with paragraph (i) of this AD.

(2) If light corrosion, as defined in the service bulletin, but no other discrepancy, is found: Repeat the inspection required by paragraph (h) of this AD within 24 months, and, based on the findings during that repeat inspection, repeat the inspection and do corrective actions, as applicable, in accordance with paragraph (i) of this AD.

(3) If severe corrosion, as defined in the service bulletin, or any damaged or fretted thread, is found: Before further flight, replace the eye-end assembly of the lift spoiler jack, associated hardware, and piston, as applicable, with new or serviceable parts, as applicable, in accordance with the service bulletin. Then, repeat the inspection required by paragraph (h) of this AD within 48 months, and, based on the findings during that repeat inspection, repeat the inspection and do corrective actions, as applicable, in accordance with paragraph (i) of this AD. Where the service bulletin specifies to return certain damaged parts to the parts manufacturer, this AD does not require that action.

Parts Installation

(j) As of the effective date of this AD, no person may install a lift spoiler jack having P/N P308-45-0002 or P308-45-0102 unless it has been inspected as required by this AD and found to be free of severe corrosion or other discrepancy.

Alternative Methods of Compliance (AMOCs)

(k)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(l) The European Aviation Safety Agency's airworthiness directive 2006-0139, dated May 23, 2006, also addresses the subject of this AD.

Issued in Renton, Washington, on September 12, 2006.
Kevin M. Mullin,
Acting Manager, Transport Airplane Directorate, Aircraft Certification Service.

[FR Doc. E6-15592 Filed 9-19-06; 8:45 am]

BILLING CODE 4910-13-P